DEPARTMENT OF HEALTH AND HUMAN SERVICES

National Institutes of Health

Center for Scientific Review; Amended Notice of Meeting

Notice is hereby given of a change in the meeting of the Center for Scientific Review Special Emphasis Panel, March 14, 2001, 8 a.m. to March 14, 2001, 3 p.m., NIH, Rockledge 2, Bethesda, MD 20892 which was published in the Federal Register on February 23, 2001, 66 FR 11307-11308.

The meeting will be held on April 9, 2001, from 2 p.m. to 3:30 p.m. The location remains the same. The meeting is closed to the public.

Dated: March 15, 2001.
LaVerne Y. Stringfield,
Director, Office of Federal Advisory Committee Policy.

[FR Doc. 01-7219 Filed 3-22-01; 8:45 am]

BILLING CODE 4140-01-M